DEPARTMENT OF JUSTICE

Antitrust Division

Notice Pursuant to the National Cooperative Research and Production Act of 1993—High Density Packaging User Group International, Inc.

Notice is hereby given that, on October 15, 2015, pursuant to Section 6(a) of the National Cooperative Research and Production Act of 1993, 15 U.S.C. 4301 et seq. (“the Act”), High Density Packaging User Group International, Inc. (“HDPUG”) has filed written notifications simultaneously with the Attorney General and the Federal Trade Commission disclosing changes in its membership. The notifications were filed for the purpose of extending the Act's provisions limiting the recovery of antitrust plaintiffs to actual damages under specified circumstances. Specifically, Hangzhou H3C Technologies Co., Ltd., Hangzhou City, PEOPLE'S REPUBLIC OF CHINA; Semi, San Jose, CA; UL LLC, San Jose, CA; I3 Electronics, Endicott, NY; and DuPont, Durham, NC, have been added as parties to this venture.

Also, Philips Medical, Murray Hill, NJ; Arlon LLC, Bear, DE; and Integral Technology, Lake Forrest, CA, have withdrawn as parties to this venture.

No other changes have been made in either the membership or planned activity of the group research project. Membership in this group research project remains open, and HDPUG intends to file additional written notifications disclosing all changes in membership.

On September 14, 1994, HDPUG filed its original notification pursuant to Section 6(a) of the Act. The Department of Justice published a notice in the Federal Register pursuant to Section 6(b) of the Act on March 23, 1995 (60 FR 15306).

The last notification was filed with the Department on February 23, 2015. A notice was published in the Federal Register pursuant to Section 6(b) of the Act on April 2, 2015 (80 FR 17785).

Patricia A. Brink,
Director of Civil Enforcement Antitrust Division.

[FR Doc. 2015-29030 Filed 11-13-15; 8:45 am]

BILLING CODE P